DEPARTMENT OF DEFENSE

Office of the Secretary

Class Tuition Waivers

AGENCY: DoD; Department of Defense Education Activity (DoDEA).

ACTION: Notice.

SUMMARY: The Secretary of Defense is authorized by Section 1404(c) of Public Law 95-561, “Defense Dependents’ Education Act of 1978,” as amended, 20 U.S.C. 923(c), to identify classes of dependents who may enroll in DoD Dependents Schools (DoDDS) and to waive tuition for any of such classes. Through DoD Directive 5124.8, “Principal Deputy Under Secretary of Defense for Personnel and Readiness,” dated July 16, 2003, subparagraph 4.1.2.2, the Secretary has delegated to the Principal Deputy Under Secretary for Personnel and Readiness (PDUSD(P&R)) the authority to prescribe policies for DoDEA.

This notice announces that the PDUSD(P&R) designated certain classes of dependents for whom tuition may be waived on a space-available, tuition-free basis on the dates listed below. Please note that the availability of space in DoDDS varies from year to year and is not guaranteed. Commanders should ensure that enrollments are timely and do not disrupt the dependent's or school's educational program.

August 24, 2007.—Minor dependents of reserve component members of the Armed Forces who are ordered to active duty under either section 12301 or 12302 of 10 U.S.C., for a period of 180 days or more to an overseas location, on an unaccompanied tour, on either a temporary duty or permanent duty change of station basis when: (1) There is a DoD dependents school in the assigned overseas location, and the minor dependent is transported to the assigned overseas location at the sponsor's expense; or (2) there is no DoD dependents school in the assigned overseas location, but the minor dependent was enrolled (and will remain enrolled) in a DoD dependents school when the sponsor was ordered to active duty. All minor dependents shall be allowed to finish the school year if the activated reserve component member returns to an inactive status. This waiver does not apply to the eligibility classes of minor dependents of federal civilian employees called to active duty, which is governed by separate law.

November 14, 2007.—Minor dependents of foreign military and foreign diplomatic personnel participating in the Partnership for Peace Program in Brussels and Mons, Belgium; Naples, Italy; London, United Kingdom; Brunssum, the Netherlands; and Oberammergau, Germany; and dependents of active diplomatic, defense attaché, and military liaison personnel from the Newly Independent States of the former Soviet Union assigned at Ankara, Turkey.

FOR FURTHER INFORMATION CONTACT: Mr. Mike Lynch, Telephone: 703-588-3201, E-mail: mike.lynch@hq.dodea.edu, or Mailing Address: 4040 North Fairfax Drive, Arlington, VA 22203-1635.

Dated: February 28, 2008.
L.M. Bynum,
Alternate OSD Federal Register Liaison Officer, DoD.

[FR Doc. E8-4386 Filed 3-5-08; 8:45 am]

BILLING CODE 5001-06-P